DEPARTMENT OF ENERGY

Federal Energy Regulatory Commission

[Docket No. RP04-52-000]

Black Marlin Pipeline Company; Notice of Tariff Filing

November 13, 2003.

Take notice that on November 7, 2003, Black Marlin Pipeline Company (Black Marlin) tendered for filing as part of its FERC Gas Tariff, Original Volume No. 1, the following tariff sheets, to be effective December 7, 2003:

Third Revised Sheet No. 102

Fourth Revised Sheet No. 127

Fifth Revised Sheet No. 220

Second Revised Sheet No. 300

First Revised Sheet No. 301

First Revised Sheet No. 302

First Revised Sheet No. 303

Third Revised Sheet No. 305

First Revised Sheet No. 306

Second Revised Sheet No. 307

First Revised Sheet No. 308

First Revised Sheet No. 309

First Revised Sheet No. 310

Third Revised Sheet No. 312

First Revised Sheet No. 313

Black Marlin states that this filing is made in part for administrative purposes and in part as a housekeeping matter to update contact names and addresses in Rate Schedules and Terms and Conditions of Black Marlin's tariff and make various revisions to the Transportation Service Agreements for the FTS and ITS Rate Schedules.

Black Marlin further states that copies of the filing have been mailed to each of its customers, interested State Commissions and other interested persons.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Magalie R. Salas,
Secretary.

[FR Doc. E3-00333 Filed 11-20-03; 8:45 am]

BILLING CODE 6717-01-P